DEPARTMENT OF LABOR

Occupational Safety and Health Administration

[Docket No. OSHA-2013-0012]

Modification to the Scopes of Recognition of Several NRTLs; Final Determination

AGENCY: Occupational Safety and Health Administration (OSHA), Labor.

ACTION: Notice.

SUMMARY: In this notice, OSHA is making a final determination to delete specific test standards from the scopes of recognition of several Nationally Recognized Testing Laboratories (NRTLs), and to incorporate replacement test standards into the scopes of recognition of several NRTLs.

DATES: The actions contained in this notice will become effective on November 25, 2013.

FOR FURTHER INFORMATION CONTACT: Information regarding this notice is available from the following sources:

Press inquiries: Contact Mr. Frank Meilinger, Director, OSHA Office of Communications, Room N-3647, U.S. Department of Labor, 200 Constitution Avenue NW., Washington, DC 20210; telephone: (202) 693-1999; email: meilinger.francis2@dol.gov.

General and technical information: Contact Mr. David Johnson, Office of Technical Programs and Coordination Activities, Directorate of Technical Support and Emergency Management, Occupational Safety and Health Administration, Room N-3655, U.S. Department of Labor, 200 Constitution Avenue NW., Washington, DC 20210; telephone (202) 693-2110; email: johnson.david.w@dol.gov.

Copies of this Federal Register notice: Electronic copies of this Federal Register notice are available at http://www.regulations.gov. This Federal Register notice, as well as other relevant information, is also available on OSHA's Web page at http://www.osha.gov.

SUPPLEMENTARY INFORMATION:

I. Background

In a notice published in the Federal Register on June 26, 2013 (78 FR 38389), OSHA proposed to delete specific test standards from the scopes of recognition of several NRTLs, and incorporate replacement test standards into the scopes of recognition of several NRTLs. OSHA now is issuing its final determination with respect to that proposal.

The NRTL Program recognizes organizations that provide product-safety testing and certification services to manufacturers. For the purposes of OSHA's NRTL Program, these organizations test and certify specific products used in the workplace to U.S. consensus-based product-safety test standards. OSHA does not develop or issue these test standards, but generally relies on U.S. standards-development organizations (SDOs) accredited by the American National Standards Institute (ANSI). The products covered by the NRTL Program consist of those items for which OSHA safety standards require certification by an NRTL. The requirements affect electrical products and 38 other types of products.

OSHA recognition of an organization as an NRTL signifies that the organization meets the legal requirements in the NRTL Program regulations at 29 CFR 1910.7 and the NRTL Program policies in CPL 1-0.3 NRTL Program Policies, Procedures, and Guidelines, December 2, 1999 (“Directive”). Recognition is an acknowledgement by OSHA that the NRTL has the capabilities to perform independent safety testing and certification of the specific products covered within the NRTL's scope of recognition. Recognition of an NRTL by OSHA also allows employers to use products certified by that NRTL to meet those OSHA standards that require product testing and certification (29 CFR 1910.7(a)).

An NRTL's scope of recognition consists, in part, of specific test standard(s) approved by OSHA for use by the NRTL. Pursuant to the NRTL Program regulations, the NRTL must first request to have a test standard included in its scope of recognition. OSHA will grant the NRTL's request only if the NRTL has the capability to test and examine equipment ¹ and materials for workplace safety purposes and to determine conformance with the test standard for each relevant item of equipment or material that it lists, labels, or accepts (29 CFR 1910.7(b)(1)). Capability includes proper testing equipment and facilities, trained staff, written testing procedures, calibration programs, and quality-control programs. An organization's recognition as an NRTL is, therefore, not for products, but for appropriate test standards covering a type of product(s) (29 CFR 1910.7(b)(1)).

¹ In this notice, OSHA uses the terms “equipment” and “product” or “products” interchangeably.

Additionally, for OSHA to consider a test standard appropriate, the test standard must be current, and it must specify the safety requirements for a specific type of product(s) (29 CFR 1910.7(c)). OSHA policy provides that a document specifies safety requirements for a specific type product(s) if the document includes “features, parts, capabilities, usage limitations, or installation requirements which if they did not exist would create a potential hazard in using the equipment” (Directive, App. D.IV.B). However, OSHA policy also provides that the document not “focus primarily on usage, installation, or maintenance requirements” (Directive, App. D.IV.B). Finally, as OSHA requires the testing and certification of certain products only (29 CFR 1910.7(a)), an NRTL's scope of recognition should not include test standards that do not specify safety requirements for products for which OSHA does not require testing and certification (Directive, App. D.IV.A).

II. OSHA's Rationale for Deleting Specific Test Standards From, and Incorporating Replacement Test Standards Into, NRTLs' Scopes of Recognition

In its June 26, 2013, Federal Register notice, OSHA provided several reasons for proposing to delete specific test standards from the scopes of recognition of several NRTLs, and incorporate replacement test standards into the scopes of recognition of several NRTLs. OSHA restates these reasons below.

A. Deleting Withdrawn Test Standards From, and Incorporating Replacement Test Standards Into, NRTLs' Scopes of Recognition

In the June 26, 2013, Federal Register notice, OSHA proposed to delete test standards withdrawn by SDOs from the scopes of recognition of several NRTLs. OSHA also proposed to replace some of the withdrawn (and deleted) test standards with comparable test standards.

The NRTL Program regulations require that appropriate test standards be current (29 CFR 1910.7(c)). A test standard withdrawn by an SDO is no longer considered an appropriate test standard (Directive, App. C.XIV.B). It is OSHA's policy to remove recognition of withdrawn test standards by issuing a correction notice in the Federal Register for all NRTLs recognized for the withdrawn test standards. However, OSHA will recognize an NRTL for an appropriate replacement test standard if the NRTL has the requisite testing and evaluation capability to perform the replacement test standard.

One method OSHA may use to determine such capability involves an analysis as to whether any testing and evaluation requirements of existing test standards in an NRTL's scope are comparable (i.e., are completely or substantially identical) to the requirements in the replacement test standard. If OSHA's analysis shows the replacement test standard does not require additional or different technical capability than an existing test standard(s), the replacement test standard is comparable to the existing test standard(s), and OSHA can add the replacement test standard to affected NRTLs' scopes of recognition.

If OSHA's analysis shows the replacement test standard requires an additional or different technical capability, the replacement test standard is not comparable to any existing test standards. In such cases (i.e., when a test standard is not comparable), each affected NRTL that seeks to have OSHA add the replacement test standard to the NRTL's scope of recognition must provide information to OSHA that demonstrates its technical capability to perform that replacement test standard.

B. Deleting Inappropriate Test Standards From NRTLs' Scopes of Recognition

In the June 26, 2013, Federal Register notice, OSHA proposed to delete specific test standards from the scopes of recognition of several NRTLs based on a recent internal review in which the NRTL Program staff determined that several test standards currently in the NRTLs' scopes of recognition did not conform to the definition of appropriate test standard outlined in NRTL Program regulations and policy. OSHA added these test standards to the affected NRTLs' scopes of recognition before it issued the NRTL Program Directive; the Directive clarified the meaning of “appropriate test standard.” After issuing the Directive, OSHA deleted some test standards from NRTLs' scopes of recognition because those test standards were not appropriate test standards (see 70 FR 11273, March 8, 2005). After further review of the entire list of test standards included under the NRTL Program, OSHA determined that it should delete additional test standards from NRTLs' scopes of recognition. In all cases, these deletions are programmatic corrections only, and do not reflect OSHA's view of the technical merits of the test standards. In addition, deleting these documents from the NRTLs' scopes of recognition does not prevent testing organizations (including NRTLs) from using the deleted documents for their testing activities.

The NRTL Program staff identified four issues that would disqualify a test standard from being appropriate for the NRTL Program. First, the test standard provides the methodology for a test, and not the standards for testing. In such cases, the documentation for the test standard describes a test method rather than an appropriate test standard (29 CFR 1910.7(c)). As stated above, a test standard must specify the safety requirements for a specific type of product(s). A test method is a “specified technical procedure for performing a test” (Directive, App. B). As such, a test method is not an appropriate test standard. While an NRTL may use a test method to determine if a specific product meets certain safety requirements, a test method is not itself a safety requirement for that product.

Second, several of the documents focus primarily on usage, installation, or maintenance requirements. As stated above, such documents are not appropriate test standards (Directive, App. D.IV.B).

Third, some of the test standards are not appropriate because they cover products for which OSHA does not require testing and certification (Directive, App. D.IV.A). While OSHA initially recognized these test standards for use in the NRTL Program and many of these test standards specifically address safety testing, they do not address safety testing relevant to any OSHA standard that requires testing and certification under the NRTL Program. As such, OSHA proposed to remove these test standards from the NRTL Program's list of appropriate test standards.

Finally, several of the test standards cover electrical-product components, such as transformers, resistors, and capacitors used in television-type appliances. These test standards apply to types of components that have limitation(s) or condition(s) on their use in that they are not appropriate for use as end-use products. These documents also specify that these types of components are for use only as part of an end-use product. NRTLs, however, evaluate such components only in the context of evaluating whether end-use products requiring NRTL approval are safe for use in the workplace. Testing such components alone would not indicate that the end-use products containing the components are safe for use. Accordingly, as a matter of policy, OSHA considers test standards covering such components are not appropriate test standards under the NRTL Program. OSHA notes, however, that it did not propose to delete from NRTLs' scopes of recognition any test standards covering end-use products that contain such components.²

² OSHA notes also that some types of devices covered by these documents, such as capacitors and transformers, may be end-use products themselves, and tested under other test standards applicable to such products. For example, the following test standard covers transformers that are end-use products: UL 1562 Standard for Transformers, Distribution, Dry-Type—Over 600 Volts. OSHA did not propose to delete such test standards from NRTLs' scopes of recognition.

In addition, OSHA notes that, to conform to a test standard covering an end-use product, an NRTL must still determine that the components in the product comply with these components' specific test standards, some of which OSHA proposed to delete in the June 26, 2013, Federal Register notice. In making this determination, NRTLs may test the components themselves, or accept the testing of a qualified testing organization that a given component conforms to its particular test standard. OSHA reviews each NRTL's procedures to determine which approach the NRTL will use to address components, and reviews the end-use product testing to verify that the NRTL appropriately addresses the product's components.

III. Summary and Analysis of Comments

OSHA provided 30 days for the public to submit comments on the proposed scope modification, and the comment period ended on July 26, 2013 (78 FR 38389, June 26, 2013). OSHA sought the following input on whether the actions OSHA proposed in the tables were appropriate:

1. OSHA sought comment on whether its proposed deletions and incorporations were appropriate, and whether it omitted any appropriate replacement test standard that is comparable to a withdrawn test standard.

2. In addition, the test standards OSHA proposed to delete included only withdrawn or otherwise inappropriate standards of which OSHA became aware on or before May 1, 2013. OSHA sought input on whether individual NRTLs' scopes of recognition contain any additional withdrawn or otherwise inappropriate test standards.

OSHA received two comments—one from the Canadian Standards Association (CSA), a currently recognized NRTL, and one from the National Electrical Manufacturers Association (NEMA), a trade association. Both comments are available for viewing at www.regulations.gov under docket number OSHA-2013-0012. The remainder of this section discusses, and responds to, these comments.

A. Component Test Standards

Both CSA and NEMA voiced concern about the effect of OSHA's proposed deletion of component test standards from NRTLs' scopes of recognition. CSA agreed that “[t]he withdrawal of component standards does not affect our certification or testing,” but asked how OSHA planned on “addressing component acceptance issues” if “clients or external bodies ask for [proof] of accreditation.” Similarly, NEMA wanted assurance that “NRTLs [will] continue to support [client data acceptance programs] even if the test standard is not appropriate under the NRTL Program.” These concerns do not address OSHA's preliminary determination that test standards that apply only to components and not to end-use products are not appropriate test standards under the NRTL Program. Whether NRTLs choose to continue to support client data-acceptance programs that are outside the scope of the NRTL Program is a matter for NRTLs and their clients to negotiate. However, OSHA reiterates that, to conform to a test standard covering an end-use product, an NRTL must still determine that the components in the product comply with these components' specific test standards, some of which OSHA proposed to delete in June 26, 2013, Federal Register notice. In making this determination, NRTLs may test the components themselves, or accept the testing and certification of a qualified testing organization that a given component conforms to its particular test standard. OSHA will continue to review each NRTL's procedures to determine which approach the NRTL will use to address components, and will review the end-use product testing to verify that the NRTL appropriately addressed that product's components.

CSA also raised specific concern with the removal of UL 207, the Standard for Nonelectrical Refrigerant Containing Components and Accessories. CSA stated that while they agree that UL 207 “covers refrigerant containing components that are used as components within end use products,” the test standard also covers “components that are added by themselves in an installation (adding a filter-drier into an air-conditioning installation, for example).” After reviewing UL 207, OSHA now concludes that UL 207 does not cover components that are not appropriate for use as end-use products. OSHA agrees with CSA that products tested to UL 207 may be added by themselves in an installation. However, OSHA points out that UL 207 covers products for which OSHA does not require testing and certification. As outlined in Section II. B. above, test standards are not appropriate when they cover products for which OSHA does not require testing and certification (Directive, App. D.IV.A).

B. Inclusion of Additional Test Standards

CSA commented that UL 60601-1, one of the replacement test standards proposed by OSHA, “by itself is insufficient to cover X-rays,” and asked whether OSHA would incorporate into its list of appropriate test standards the third edition of ANSI/AAMI ES60601-1, which adopted some of the standards necessary to sufficiently cover X-rays. NEMA had a similar comment, but noted that the third edition of the ANSI/AAMI standard was not a comparable replacement test standard; NEMA asked OSHA to publish a separate Federal Register notice addressing the issue of incorporating the third edition of the ANSI/AAMI standard.

UL, the SDO responsible for UL 187, withdrew the test standard and determined that UL 60601-1 is the appropriate replacement test standard. While OSHA believes ANSI/AAMI ES60601-1 may also be an appropriate test standard, OSHA finds that ANSI/AAMI ES60601-1 differs significantly from UL 187 and UL 60601-1, the standard designated to replace UL 187. Accordingly, in this Federal Register notice, OSHA only incorporates comparable replacement test standards into its list of appropriate test standards and into NRTLs' scopes of recognition. Pursuant to OSHA's existing policy, it incorporates new test standards into its list of appropriate test standards and into NRTLs' scopes of recognition only when it (1) processes an NRTL's application for recognition (either initial or expansion), or (2) incorporates into the scope of recognition of an NRTL a comparable replacement test standard for a withdrawn test standard (Directive, Ch. 2 and App. C.XIV.B), as it is doing through this Federal Register notice. OSHA may publish later a separate Federal Register notice proposing to incorporate ANSI/AAMI ES60601-1 into its list of appropriate test standards and into affected NRTLs' scopes of recognition.

CSA also asked OSHA to consider the following test standards, specific to x-ray equipment, as replacement test standards: ISO/IEC 60601-1-3, 60601-2-8, 60601-2-28, 60601-32, 60601-2-43, 60601-2-44, 60601-2-45, and 60601-2-54. Pursuant to 29 CFR 1910.7(c)(1), an appropriate test standard must be “[r]ecognized in the United States as a safety standard providing an adequate level of safety.” None of these test standards have been so recognized in the United States. Should any or all these test standards become so recognized in the United States, OSHA may publish a Federal Register notice proposing to incorporate one or more of the test standards into its list of appropriate test standards and into NRTLs' scopes of recognition (as appropriate).

NEMA also asked OSHA to publish a separate Federal Register notice addressing the issue of incorporating the IEC 60079, 61241, and 61779 series of safety standards. OSHA may publish a Federal Register notice proposing to incorporate the IEC 60079 and 61241 series of standards into its list of appropriate test standards. OSHA also will act on the pending applications for expansion referenced by NEMA. OSHA notes, however, that it will not consider incorporating the 61779 series of safety standards into NRTLs' scopes of recognition because this series of standards include performance requirements only, and not safety requirements for specific equipment. While the 61779 series of test standards may address some safety concerns, they do not focus on product-specific safety requirements. Instead, they focus on the performance and accuracy that relate specifically to the operations of the product. As such, these performance standards are not appropriate test standards under the requirements of the NRTL Program found in 29 CFR 1910.7.

IV. Deleting Specific Test Standards From, and Incorporating Replacement Test Standards Into, NRTLs' Scopes of Recognition—Final Decision

Table 1 lists the test standards that OSHA is deleting from the NRTL Program's list of appropriate test standards. Table 1 also provides an abbreviated rationale for OSHA's actions, and lists the corresponding replacement test standards that OSHA incorporates into the NRTLs' scopes of recognition (when applicable). In most cases, OSHA already incorporated the replacement test standards into the affected NRTLs' scopes of recognition. OSHA takes one of the following actions with respect to the remaining cases:

1. OSHA incorporates, for all affected NRTLs, comparable test standards that SDOs adopted to replace the withdrawn (and deleted) test standards; or

2. OSHA incorporates, for all affected NRTLs, appropriate test standards that OSHA concludes are comparable to the withdrawn (and deleted) test standards.

Table 1 lists the subject test standards and the action OSHA is taking with regard to each of these test standards, but does not indicate how these actions affect individual NRTLs' scopes of recognition. Section V of this notice lists the modifications OSHA is making to each individual NRTL's scope of recognition as a result of these actions.

Table 1—List of Test Standards OSHA Is Deleting From or Incorporating Into NRTLs' Scopes of Recognition
Deleted test standard | Reason for deletion | Replacement test standard(s) (if applicable)
ANSI A90.1 Safety Standard for Belt Manlifts | 29 CFR 1910.68 does not require testing and certification for covered product(s); also not an appropriate test standard because it covers primarily the manufacture, installation, maintenance, inspection, and operation of manlifts, not safety testing | Not applicable (NA).
ASTM E2074 Standard Test Method for Fire Tests of Door Assemblies, Including Positive Pressure Testing of Side-Hinged and Pivoted Swinging Door Assemblies | Withdrawn | No replacement.
ANSI/NFPA 11A Medium- and High-Expansion Foam Systems | Withdrawn; moreover, OSHA standards do not require testing and certification for covered systems | NA. Although replaced by ANSI/NFPA 11, ANSI/NFPA 11 is not an appropriate test standard (see 75 FR 77002, 77004-77005, Dec. 10, 2010, for discussion of why ANSI/NFPA 11 is not appropriate).
ANSI/NFPA 20 Installation of Stationary Fire Pumps for Fire Protection | Not an appropriate test standard because it covers primarily the selection and installation of these pumps, not safety testing | NA.
UL 94 Tests for Flammability of Plastic Materials for Parts in Devices and Appliances | No requirement for NRTL approval because the standard covers components that are not appropriate for use as end-use products | NA.
UL 187 X Ray Equipment | Withdrawn | UL 60601-1 Medical Electrical Equipment, Part 1: General Requirements for Safety (see Note 1 below).
UL 207 Refrigerant-Containing Components and Accessories, Nonelectrical | No requirement for NRTL approval because the standard covers products for which OSHA does not require testing and certification | NA.
UL 343 Pumps for Oil-Burning Appliances | No requirement for NRTL approval of this type of pump | NA.
UL 512 Fuseholders | Withdrawn | UL 4248-1 Fuseholders—Part 1: General Requirements; UL 4248-4 Fuseholders—Part 4: Class CC; UL 4248-5 Fuseholders—Part 5: Class G; UL 4248-6 Fuseholders—Part 6: Class H; UL 4248-8 Fuseholders—Part 8: Class J; UL 4248-9 Fuseholders—Part 9: Class K; UL 4248-11 Fuseholders—Part 11: Type C (Edison Base) and Type S Plug Fuse; UL 4248-12—Fuseholders—Part 12: Class R; UL 4248-15 Fuseholders—Part 15: Class T (for all replacement standards, see Note 1 below).
UL 544 Medical and Dental Equipment | Withdrawn | UL 60601-1 Medical Electrical Equipment, Part 1: General Requirements for Safety (see Note 1 below).
UL 632 Electrically-Actuated Transmitters | Withdrawn | No replacement.
UL 651B Continuous Length HDPE Conduit | Withdrawn | UL 651A Schedule 40 and 80 High Density Polyethylene (HDPE) Conduit (see Note 1 below).
UL 698 Industrial Control Equipment for Use in Hazardous (Classified) Locations | Withdrawn | UL 1203 Explosion Proof and Dust Ignition Proof Electrical Equipment for Use in Hazardous (Classified) Locations (see Note 1 below).
UL 745-2-2 Particular Requirements for Screwdrivers and Impact Wrenches | Withdrawn | UL 60745-2-2 Hand-Held Motor-Operated Electric Tools—Safety—Part 2-2: Particular Requirements for Screwdrivers and Impact Wrenches (see Note 1 below).
UL 745-2-4 Particular Requirements for Sanders | Withdrawn | UL 60745-2-4 Hand-Held Motor-Operated Electric Tools—Safety—Part 2-4: Particular Requirements for Sanders and Polishers Other Than Disk Type (see Note 1 below).
UL 745-2-6 Particular Requirements for Hammers | Withdrawn | UL 60745-2-6 Hand-Held Motor-Operated Electric Tools—Safety—Part 2-6: Particular Requirements for Hammers (see Note 1 below).
UL 745-2-8 Particular Requirements for Shears and Nibblers | Withdrawn | UL 60745-2-8 Hand-Held Motor-Operated Electric Tools Safety—Part 2-8: Particular Requirements for Shears and Nibblers (see Note 1 below).
UL 745-2-9 Particular Requirements for Tappers | Withdrawn | UL 60745-2-9 Hand-Held Motor-Operated Electric Tools—Safety—Part 2-9: Particular Requirements for Tappers (see Note 1 below).
UL 745-2-11 Particular Requirements for Reciprocating Saws | Withdrawn | UL 60745-2-11 Hand-Held Motor-Operated Electric Tools—Safety—Part 2-11: Particular Requirements for Reciprocating Saws (see Note 1 below).
UL 745-2-12 Particular Requirements for Concrete Vibrators | Withdrawn | UL 60745-2-12 Hand-Held Motor-Operated Electric Tools—Safety—Part 2-12: Particular Requirements For Concrete Vibrators (see Note 1 below).
UL 745-2-30 Particular Requirements for Staplers | Withdrawn | UL 60745-2-16 Hand-Held Motor-Operated Electric Tools—Safety—Part 2-16: Particular Requirements for Tackers (see Note 1 below).
UL 745-2-33 Particular Requirements for Portable Bandsaw | Withdrawn | UL 60745-2-20 Hand-Held Motor-Operated Electric Tools—Safety—Part 2-20: Particular Requirements For Band Saws (see Note 1 below).
UL 745-2-34 Particular Requirements for Strapping Tools | Withdrawn | UL 60745-2-18 Hand-Held Motor-Operated Electric Tools—Safety—Part 2-18: Particular Requirements For Strapping Tools (see Note 1 below).
UL 746A Polymeric Materials Short Term Property Evaluations | No requirement for NRTL approval because the standard covers components that are not appropriate for use as end-use products | NA.
UL 746B Polymeric Materials Long Term Property Evaluations | No requirement for NRTL approval because the standard covers components that are not appropriate for use as end-use products | NA.
UL 746C Polymeric Materials—Use in Electrical Equipment Evaluations | No requirement for NRTL approval because the standard covers components that are not appropriate for use as end-use products | NA.
UL 746E Polymeric Materials—Industrial Laminates, Filament Wound Tubing, Vulcanized Fibre, and Materials Used in Printed- Wiring Boards | No requirement for NRTL approval because the standard covers components that are not appropriate for use as end-use products | NA.
UL 781 Portable Electric Lighting Units for Use in Hazardous (Classified) Locations | Withdrawn | UL 844 Electric Lighting Fixtures for Use in Hazardous (Classified) Locations (see Note 1 below).
UL 796 Printed-Wiring Boards | No requirement for NRTL approval because the standard covers components that are not appropriate for use as end-use products | NA.
UL 877 Circuit Breakers and Circuit Breaker Enclosures for Use in Hazardous (Classified) Locations (UL 1203) | Withdrawn | UL 1203 Explosion Proof and Dust Ignition Proof Electrical Equipment for Use in Hazardous (Classified) Locations (see Note 1 below).
UL 886 Outlet Boxes and Fittings for Use in Hazardous (Classified) Locations | Withdrawn | UL 1203 Explosion Proof and Dust Ignition Proof Electrical Equipment for Use in Hazardous (Classified) Locations (see Note 1 below).
UL 894 Switches for Use in Hazardous (Classified) Locations | Withdrawn | UL 1203 Explosion Proof and Dust Ignition Proof Electrical Equipment for Use in Hazardous (Classified) Locations (see Note 1 below).
UL 983 Surveillance Camera Units | Withdrawn | No replacement.
UL 1002 Electrically Operated Valves for Use in Hazardous (Classified) Locations | Withdrawn | UL 1203 Explosion Proof and Dust Ignition Proof Electrical Equipment for Use in Hazardous (Classified) Locations (see Note 1 below).
UL 1005 Electric Flatirons | Withdrawn | UL 60335-2-3 Household and Similar Electrical Appliances, Part 2: Particular Requirements for Electric Irons (see Note 1 below).
UL 1010 Receptacle Plug Combinations for Use in Hazardous (Classified) Locations | Withdrawn | UL 1203 Explosion Proof and Dust Ignition Proof Electrical Equipment for Use in Hazardous (Classified) Locations (see Note 1 below).
UL 1075 Gas-Fired Cooking Appliances for Recreational Vehicles | Withdrawn | No replacement.
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.
UL 1412 Fusing Resistors and Temperature-Limited Resistors for Radio-, and Television-Type Appliances | No requirement for NRTL approval because the standard covers components that are not appropriate for use as end-use products | NA.
UL 1413 High Voltage Components for Television Type Appliances | No requirement for NRTL approval because the standard covers components that are not appropriate for use as end-use products | NA.
UL 1414 Across-the-Line, Antenna-Coupling, and Line- by-Pass Capacitors for Radio- and Television-Type Appliances | No requirement for NRTL approval because the standard covers components that are not appropriate for use as end-use products | NA.
UL 1416 Overcurrent and Overtemperature Protectors for Radio- and Television-Type Appliances | No requirement for NRTL approval because the standard covers components that are not appropriate for use as end-use products | NA.
UL 1417 Special Fuses for Radio- and Television-Type Appliances | No requirement for NRTL approval because the standard covers components that are not appropriate for use as end-use products | NA.
UL 1433 Control Centers for Changing Message Type Electric Signs | Withdrawn | No replacement.
UL 1445 Electric Water Bed Heaters | Withdrawn | No replacement.
UL 1604 Electrical Equipment for Use in Class I and II, Division 2 and Class III Hazardous (Classified) Locations | Withdrawn | ANSI/ISA-12.12.01 Nonincendive Electrical Equipment for Use in Class I and II, Division 2 and Class III, Divisions 1 and 2 Hazardous (Classified) Locations (see Note 1 below).
UL 1664 Immersion Detection Circuit Interrupters | Withdrawn | No replacement.
UL 1666 Test for Flame Propagation Height of Electrical and Optical Fiber Cables Installed Vertically in Shafts | Test method; therefore, not an appropriate test standard | NA.
UL 1684 Reinforced Thermosetting Resin Conduit (RTRC) and Fittings | Withdrawn | UL 2420 Belowground Reinforced Thermosetting Resin Conduit (RTRC) and Fittings and UL 2515 Aboveground Reinforced Thermosetting Resin Conduit (RTRC) and Fittings (for both replacement standards, see Note 1 below).
UL 1686 Pin and Sleeve Configurations | Not an appropriate test standard; does not specify safety requirements for covered devices; provides the physical dimensions for covered devices only | NA.
UL 1692 Polymeric Materials Coil Forms | No requirement for NRTL approval because the standard covers components that are not appropriate for use as end-use products | NA.
UL 1694 Tests for Flammability of Small Polymeric Component Materials | No requirement for NRTL approval because the standard covers components that are not appropriate for use as end-use products | NA.
UL 2106 Field Erected Boiler Assemblies | No requirement for NRTL approval in OSHA requirements; test standard applies to boilers burning fuel | NA.
UL 60691 Thermal Links Requirements and Application Guide | No requirement for NRTL approval because the standard covers components that are not appropriate for use as end-use products | NA.

Note 1: OSHA believes the replacement test standard is comparable to the withdrawn test standard. Therefore, OSHA is incorporating the replacement test standard into affected NRTLs' scopes of recognition without requiring affected NRTLs to further demonstrate capability, as specified by 29 CFR 1910.7(b)(1). OSHA notes that such action is not necessary for those NRTLs with scopes of recognition that already include the replacement test standard.

V. Modification to NRTLs' Scopes of Recognition—Final Determination

The tables in this section (Table 2 thru Table 13) list, for each affected NRTL, the test standard(s) that OSHA is deleting from the scope of recognition of the NRTL and, when applicable, the comparable replacement test standard(s) that OSHA incorporates into the scope of recognition of that NRTL to replace withdrawn (and deleted) test standards.

OSHA will incorporate into its informational Web pages the modifications OSHA is making to each NRTL's scope of recognition. These Web pages detail the scope of recognition for each NRTL, including the test standards the NRTL may use to test and certify products under OSHA's NRTL Program. OSHA also will add, to its “Composite List of Standards Recognized Under the NRTL Program” Web page, those test standards it is incorporating into affected NRTLs' scopes of recognition, and add, to its “Composite List of Test Standards No Longer Recognized” Web page, those test standards that OSHA no longer recognizes or permits under the NRTL Program. Access to these Web pages is available at http://www.osha.gov/dts/otpca/nrtl/index.html.

OSHA is making the following revisions to the scopes of recognition of individual NRTLs:

Table 2—Test Standards OSHA Is Deleting From or Incorporating Into the Scope of Recognition of the Canadian Standards Association (CSA)
Deleted test standard | Reason for deletion | Replacement test standard(s) (if applicable)
UL 94 Tests for Flammability of Plastic Materials for Parts in Devices and Appliances | No requirement for NRTL approval because the standard covers components that are not appropriate for use as end-use products | NA.
UL 187 X Ray Equipment | Withdrawn | UL 60601-1 Medical Electrical Equipment, Part 1: General Requirements for Safety (see Note 2 below).
UL 207 Refrigerant-Containing Components and Accessories, Nonelectrical | No requirement for NRTL approval because the standard covers products for which OSHA does not require testing and certification | NA.
UL 343 Pumps for Oil-Burning Appliances | No requirement for NRTL approval of this type of pump | NA.
UL 512 Fuseholders | Withdrawn | UL 4248-1 Fuseholders—Part 1: General Requirements UL 4248-4 Fuseholders—Part 4: Class CC UL 4248-5 Fuseholders—Part 5: Class G UL 4248-6 Fuseholders—Part 6: Class H
|  | UL 4248-8 Fuseholders—Part 8: Class J UL 4248-9 Fuseholders—Part 9: Class K UL 4248-11 Fuseholders—Part 11: Type C (Edison Base) and Type S Plug Fuse UL 4248-12 Fuseholders—Part 12: Class R UL 4248-15 Fuseholders—Part 15: Class T (for all replacement standards, see Note 3 below).
UL 544 Medical and Dental Equipment | Withdrawn | UL 60601-1 Medical Electrical Equipment, Part 1: General Requirements for Safety (see Note 2 below).
UL 632 Electrically-Actuated Transmitters | Withdrawn | No replacement.
UL 651B Continuous Length HDPE Conduit | Withdrawn | UL 651A Schedule 40 and 80 High Density Polyethylene (HDPE) Conduit (see Note 2 below).
UL 698 Industrial Control Equipment for Use in Hazardous (Classified) Locations | Withdrawn | UL 1203 Explosion Proof and Dust Ignition Proof Electrical Equipment for Use in Hazardous (Classified) Locations (see Note 2 below).
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools Safety—Part 2-8: Particular Requirements for Shears and Nibblers (see Note 3 below).
UL 745-2-9 Particular Requirements for Tappers | Withdrawn | UL 60745-2-9C Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 746A Polymeric Materials Short Term Property Evaluations | No requirement for NRTL approval because the standard covers components that are not appropriate for use as end-use products | NA.
UL 746B Polymeric Materials Long Term Property Evaluations | No requirement for NRTL approval because the standard covers components that are not appropriate for use as end-use products | NA.
UL 746C Polymeric Materials—Use in Electrical Equipment Evaluations | No requirement for NRTL approval because the standard covers components that are not appropriate for use as end-use products | NA.
UL 746E Polymeric Materials—Industrial Laminates, Filament Wound Tubing, Vulcanized Fibre, and Materials Used in Printed-Wiring Boards | No requirement for NRTL approval because the standard covers components that are not appropriate for use as end-use products | NA.
UL 781 Portable Electric Lighting Units for Use in Hazardous (Classified) Locations | Withdrawn | UL 844 Electric Lighting Fixtures for Use in Hazardous (Classified) Locations (see Note 2 below).
UL 796 Printed-Wiring Boards | No requirement for NRTL approval because the standard covers components that are not appropriate for use as end-use products | NA.
UL 877 Circuit Breakers and Circuit Breaker Enclosures for Use in Hazardous (Classified) Locations (UL 1203) | Withdrawn | UL 1203 Explosion Proof and Dust Ignition Proof Electrical Equipment for Use in Hazardous (Classified) Locations (see Note 2 below).
UL 886 Outlet Boxes and Fittings for Use in Hazardous (Classified) Locations | Withdrawn | UL 1203 Explosion Proof and Dust Ignition Proof Electrical Equipment for Use in Hazardous (Classified) Locations (see Note 2 below).
UL 894 Switches for Use in Hazardous (Classified) Locations | Withdrawn | UL 1203 Explosion Proof and Dust Ignition Proof Electrical Equipment for Use in Hazardous (Classified) Locations (see Note 2 below).
UL 983 Surveillance Camera Units | Withdrawn | No replacement.
UL 1002 Electrically Operated Valves for Use in Hazardous (Classified) Locations | Withdrawn | UL 1203 Explosion Proof and Dust Ignition Proof Electrical Equipment for Use in Hazardous (Classified) Locations (see Note 2 below).
UL 1005 Electric Flatirons | Withdrawn | UL 60335-2-3 Household and Similar Electrical Appliances, Part 2: Particular Requirements for Electric Irons (see Note 3 below).
UL 1010 Receptacle Plug Combinations for Use in Hazardous (Classified) Locations | Withdrawn | UL 1203 Explosion Proof and Dust Ignition Proof Electrical Equipment for Use in Hazardous (Classified) Locations (see Note 2 below).
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.
UL 1412 Fusing Resistors and Temperature-Limited Resistors for Radio-, and Television-Type Appliances | No requirement for NRTL approval because the standard covers components that are not appropriate for use as end-use products | NA.
UL 1413 High Voltage Components for Television Type Appliances | No requirement for NRTL approval because the standard covers components that are not appropriate for use as end-use products | NA.
UL 1414 Across-the-Line, Antenna-Coupling, and Line- by-Pass Capacitors for Radio- and Television-Type Appliances | No requirement for NRTL approval because the standard covers components that are not appropriate for use as end-use products | NA.
UL 1416 Overcurrent and Overtemperature Protectors for Radio- and Television-Type Appliances | No requirement for NRTL approval because the standard covers components that are not appropriate for use as end-use products | NA.
UL 1417 Special Fuses for Radio- and Television-Type Appliances | No requirement for NRTL approval because the standard covers components that are not appropriate for use as end-use products | NA.
UL 1433 Control Centers for Changing Message Type Electric Signs | Withdrawn | No replacement.
UL 1604 Electrical Equipment for Use in Class I and II, Division 2 and Class III Hazardous (Classified) Locations | Withdrawn | ANSI/ISA—12.12.01-2012 Nonincendive Electrical Equipment for Use in Class I and II, Division 2 and Class III, Divisions 1 and 2 Hazardous (Classified) Locations (see Note 3 below).
UL 1664 Immersion Detection Circuit Interrupters | Withdrawn | No replacement.
UL 1666 Test for Flame Propagation Height of Electrical and Optical Fiber Cables Installed Vertically in Shafts | Test method; therefore, not an appropriate test standard | NA.
UL 1684 Reinforced Thermosetting Resin Conduit (RTRC) and Fittings | Withdrawn | UL 2420 Belowground Reinforced Thermosetting Resin Conduit (RTRC) and Fittings and UL 2515 Aboveground Reinforced Thermosetting Resin Conduit (RTRC) and Fittings (for both replacement standards, see Note 3 below).
UL 60691 Thermal-Links Requirements and Application Guide | No requirement for NRTL approval because the standard covers components that are not appropriate for use as end-use products | NA.

Note 2: OSHA believes the replacement test standard is comparable to the withdrawn test standard. Moreover, OSHA already includes the replacement test standard in the NRTL's scope of recognition. Therefore, no further demonstration of capability is necessary at this time.

Note 3: OSHA believes the replacement test standard is comparable to the withdrawn test standard. Therefore, OSHA is incorporating the replacement test standard into the NRTLs' scopes of recognition without requiring the NRTL to further demonstrate capability, as specified by 29 CFR 1910.7(b)(1).

Table 3—Test Standards OSHA Is Deleting From or Incorporating Into the Scope of Recognition of Curtis-Straus LLC
Deleted test standard | Reason for deletion | Replacement test standard(s) (if applicable)
UL 544 Medical and Dental Equipment | Withdrawn | UL 60601-1 Medical Electrical Equipment, Part 1: General Requirements for Safety (see Note 2 below).

Note 2: OSHA believes the replacement test standard is comparable to the withdrawn test standard. Moreover, OSHA already includes the replacement test standard in the NRTL's scope of recognition. Therefore, no further demonstration of capability is necessary at this time.

Table 4—Test Standards OSHA Is Deleting From or Incorporating Into the Scope of Recognition of FM Approvals LLC
Deleted test standard | Reason for deletion | Replacement test standard(s) (if applicable)
UL 698 Industrial Control Equipment for Use in Hazardous (Classified) Locations | Withdrawn | UL 1203 Explosion Proof and Dust Ignition Proof Electrical Equipment for Use in Hazardous (Classified) Locations (see Note 2 below).
UL 781 Portable Electric Lighting Units for Use in Hazardous (Classified) Locations | Withdrawn | UL 844 Electric Lighting Fixtures for Use in Hazardous (Classified) Locations (see Note 2 below).
UL 877 Circuit Breakers and Circuit Breaker Enclosures for Use in Hazardous (Classified) Locations (UL 1203) | Withdrawn | UL 1203 Explosion Proof and Dust Ignition Proof Electrical Equipment for Use in Hazardous (Classified) Locations (see Note 2 below).
UL 886 Outlet Boxes and Fittings for Use in Hazardous (Classified) Locations | Withdrawn | UL 1203 Explosion Proof and Dust Ignition Proof Electrical Equipment for Use in Hazardous (Classified) Locations (see Note 2 below).
UL 894 Switches for Use in Hazardous (Classified) Locations | Withdrawn | UL 1203 Explosion Proof and Dust Ignition Proof Electrical Equipment for Use in Hazardous (Classified) Locations (see Note 2 below).
UL 1002 Electrically Operated Valves for Use in Hazardous (Classified) Locations | Withdrawn | UL 1203 Explosion Proof and Dust Ignition Proof Electrical Equipment for Use in Hazardous (Classified) Locations (see Note 2 below).

Note 2: OSHA believes the replacement test standard is comparable to the withdrawn test standard. Moreover, OSHA already includes the replacement test standard in the NRTL's scope of recognition. Therefore, no further demonstration of capability is necessary at this time.

Table 5—Test Standards OSHA Is Deleting From or Incorporating Into the Scope of Recognition of Intertek Testing Services NA, Inc.
Deleted test standard | Reason for deletion | Replacement test standard(s) (if applicable)
ANSI A90.1 Safety Standard for Belt Manlifts | 29 CFR 1910.68 does not require testing and certification for covered product(s); also not an appropriate test standard because it covers primarily the manufacture, installation, maintenance, inspection, and operation of manlifts, not safety testing | NA.
ASTM E2074 Standard Test Method for Fire Tests of Door Assemblies, Including Positive Pressure Testing of Side-Hinged and Pivoted Swinging Door Assemblies | Withdrawn | No replacement.
ANSI/NFPA 11A Medium- and High-Expansion Foam Systems | Withdrawn; moreover, OSHA standards do not require testing and certification for covered systems | NA. Although replaced by ANSI/NFPA 11, ANSI/NFPA 11 is not an appropriate test standard (see 75 FR 77002, 77004-77005, Dec. 10, 2010, for discussion of why ANSI/NFPA 11 is not appropriate).
ANSI/NFPA 20 Installation of Stationary Fire Pumps for Fire Protection | Not an appropriate test standard because it covers primarily the selection and installation of these pumps, not safety testing | NA.
UL 94 Tests for Flammability of Plastic Materials for Parts in Devices and Appliances | No requirement for NRTL approval because the standard covers components that are not appropriate for use as end-use products | NA.
UL 187 X Ray Equipment | Withdrawn | UL 60601-1 Medical Electrical Equipment, Part 1: General Requirements for Safety (see Note 2 below).
UL 207 Refrigerant-Containing Components and Accessories, Nonelectrical | No requirement for NRTL approval because the standard covers products for which OSHA does not require testing and certification | NA.
UL 343 Pumps for Oil-Burning Appliances | No requirement for NRTL approval of this type of pump | NA.
UL 512 Fuseholders | Withdrawn | UL 4248-1 Fuseholders—Part 1: General Requirements. UL 4248-4 Fuseholders—Part 4: Class CC. UL 4248-5 Fuseholders—Part 5: Class G. UL 4248-6 Fuseholders—Part 6: Class H. UL 4248-8 Fuseholders—Part 8: Class J. UL 4248-9 Fuseholders—Part 9: Class K. UL 4248-11 Fuseholders—Part 11: Type C (Edison Base) and Type S Plug Fuse. UL 4248-12 Fuseholders—Part 12: Class R. UL 4248-15 Fuseholders—Part 15: Class T (for all replacement standards, see Note 3 below).
UL 544 Medical and Dental Equipment | Withdrawn | UL 60601-1 Medical Electrical Equipment, Part 1: General Requirements for Safety (see Note 2 below).
UL 632 Electrically-Actuated Transmitters | Withdrawn | No replacement.
UL 651B Continuous Length HDPE Conduit | Withdrawn | UL 651A Schedule 40 and 80 High Density Polyethylene (HDPE) Conduit (see Note 2 below).
UL 698 Industrial Control Equipment for Use in Hazardous (Classified) Locations | Withdrawn | UL 1203 Explosion Proof and Dust Ignition Proof Electrical Equipment for Use in Hazardous (Classified) Locations (see Note 2 below).
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools Safety—Part 2-8: Particular Requirements for Shears and Nibblers (see Note 3 below).
UL 745-2-9 Particular Requirements for Tappers | Withdrawn | UL 60745-2-9 Hand-Held Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 746A Polymeric Materials Short Term Property Evaluations | No requirement for NRTL approval because the standard covers components that are not appropriate for use as end-use products | NA.
UL 746B Polymeric Materials Long Term Property Evaluations | No requirement for NRTL approval because the standard covers components that are not appropriate for use as end-use products | NA.
UL 746C Polymeric Materials—Use in Electrical Equipment Evaluations | No requirement for NRTL approval because the standard covers components that are not appropriate for use as end-use products | NA.
UL 746E Polymeric Materials—Industrial Laminates, Filament Wound Tubing, Vulcanized Fibre, and Materials Used in Printed- Wiring Boards | No requirement for NRTL approval because the standard covers components that are not appropriate for use as end-use products | NA.
UL 781 Portable Electric Lighting Units for Use in Hazardous (Classified) Locations | Withdrawn | UL 844 Electric Lighting Fixtures for Use in Hazardous (Classified) Locations (see Note 2 below).
UL 796 Printed-Wiring Boards | No requirement for NRTL approval because the standard covers components that are not appropriate for use as end-use products | NA.
UL 877 Circuit Breakers and Circuit Breaker Enclosures for Use in Hazardous (Classified) Locations (UL 1203) | Withdrawn | UL 1203 Explosion Proof and Dust Ignition Proof Electrical Equipment for Use in Hazardous (Classified) Locations (see Note 2 below).
UL 886 Outlet Boxes and Fittings for Use in Hazardous (Classified) Locations | Withdrawn | UL 1203 Explosion Proof and Dust Ignition Proof Electrical Equipment for Use in Hazardous (Classified) Locations (see Note 2 below).
UL 894 Switches for Use in Hazardous (Classified) Locations | Withdrawn | UL 1203 Explosion Proof and Dust Ignition Proof Electrical Equipment for Use in Hazardous (Classified) Locations (see Note 2 below).
UL 983 Surveillance Camera Units | Withdrawn | No replacement.
UL 1002 Electrically Operated Valves for Use in Hazardous (Classified) Locations | Withdrawn | UL 1203 Explosion Proof and Dust Ignition Proof Electrical Equipment for Use in Hazardous (Classified) Locations (see Note 2 below).
UL 1005 Electric Flatirons | Withdrawn | UL 60335-2-3 Household and Similar Electrical Appliances, Part 2: Particular Requirements for Electric Irons (see Note 3 below).
UL 1010 Receptacle Plug Combinations for Use in Hazardous (Classified) Locations | Withdrawn | UL 1203 Explosion Proof and Dust Ignition Proof Electrical Equipment for Use in Hazardous (Classified) Locations (see Note 2 below).
UL 1075 Gas-Fired Cooking Appliances for Recreational Vehicles | Withdrawn | No replacement.
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.
UL 1412 Fusing Resistors and Temperature-Limited Resistors for Radio-, and Television-Type Appliances | No requirement for NRTL approval because the standard covers components that are not appropriate for use as end-use products | NA.
UL 1413 High Voltage Components for Television Type Appliances | No requirement for NRTL approval because the standard covers components that are not appropriate for use as end-use products | NA.
UL 1414 Across-the-Line, Antenna-Coupling, and Line- by-Pass Capacitors for Radio- and Television-Type Appliances | No requirement for NRTL approval because the standard covers components that are not appropriate for use as end-use products | NA.
UL 1416 Overcurrent and Overtemperature Protectors for Radio- and Television-Type Appliances | No requirement for NRTL approval because the standard covers components that are not appropriate for use as end-use products | NA.
UL 1417 Special Fuses for Radio- and Television-Type Appliances | No requirement for NRTL approval because the standard covers components that are not appropriate for use as end-use products | NA.
UL 1433 Control Centers for Changing Message Type Electric Signs | Withdrawn | No replacement.
UL 1445 Electric Water Bed Heaters | Withdrawn | No replacement.
UL 1604 Electrical Equipment for Use in Class I and II, Division 2 and Class III Hazardous (Classified) Locations | Withdrawn | ANSI/ISA—12.12.01-2012 Nonincendive Electrical Equipment for Use in Class I and II, Division 2 and Class III, Divisions 1 and 2 Hazardous (Classified) Locations (see Note 2 below).
UL 1664 Immersion Detection Circuit Interrupters | Withdrawn | No replacement.
UL 1666 Test for Flame Propagation Height of Electrical and Optical Fiber Cables Installed Vertically in Shafts | Test method; therefore, not an appropriate test standard | NA.
UL 1694 Tests for Flammability of Small Polymeric Component Materials | No requirement for NRTL approval because the standard covers components that are not appropriate for use as end-use products | NA.
UL 2106 Field Erected Boiler Assemblies | No requirement for NRTL approval in OSHA requirements; test standard applies to boilers burning fuel | NA.
UL 60691 Thermal-Links-Requirements and Application Guide | No requirement for NRTL approval because the standard covers components that are not appropriate for use as end-use products | NA.

Note 2: OSHA believes the replacement test standard is comparable to the withdrawn test standard. Moreover, OSHA already includes the replacement test standard in the NRTL's scope of recognition. Therefore, no further demonstration of capability is necessary at this time.

Note 3: OSHA believes the replacement test standard is comparable to the withdrawn test standard. Therefore, OSHA is incorporating the replacement test standard into the NRTLs' scopes of recognition without requiring the NRTL to further demonstrate capability, as specified by 29 CFR 1910.7(b)(1).

Table 6—Test Standards OSHA Is Deleting From or Incorporating Into the Scope of Recognition of MET Laboratories, Inc.
Deleted test standard | Reason for deletion | Replacement test standard(s) (if applicable)
UL 187 X Ray Equipment | Withdrawn | UL 60601-1 Medical Electrical Equipment, Part 1: General Requirements for Safety (see Note 2 below).
UL 544 Medical and Dental Equipment | Withdrawn | UL 60601-1 Medical Electrical Equipment, Part 1: General Requirements for Safety (see Note 2 below).
UL 698 Industrial Control Equipment for Use in Hazardous (Classified) Locations | Withdrawn | UL 1203 Explosion Proof and Dust Ignition Proof Electrical Equipment for Use in Hazardous (Classified) Locations (see Note 2 below).
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools Safety—Part 2-8: Particular Requirements for Shears and Nibblers (see Note 3 below).
UL 745-2-9 Particular Requirements for Tappers | Withdrawn | UL 60745-2-9 Hand-Held Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 886 Outlet Boxes and Fittings for Use in Hazardous (Classified) Locations | Withdrawn | UL 1203 Explosion Proof and Dust Ignition Proof Electrical Equipment for Use in Hazardous (Classified) Locations (see Note 2 below).
UL 983 Surveillance Camera Units | Withdrawn | No replacement.
UL 1005 Electric Flatirons | Withdrawn | UL 60335-2-3 Household and Similar Electrical Appliances, Part 2: Particular Requirements for Electric Irons (see Note 3 below).
UL 1411 Transformers and Motor Transformers for Use In Audio-, Radio-, and Television-Type Appliances | No requirement for NRTL approval because the standard covers components that are not appropriate for use as end-use products | NA.
UL 1433 Control Centers for Changing Message Type Electric Signs | Withdrawn | No replacement.
UL 1604 Electrical Equipment for Use in Class I and II, Division 2 and Class III Hazardous (Classified) Locations | Withdrawn | ANSI/ISA—12.12.01-2012 Nonincendive Electrical Equipment for Use in Class I and II, Division 2 and Class III, Divisions 1 and 2 Hazardous (Classified) Locations (see Note 3 below).

Note 2: OSHA believes the replacement test standard is comparable to the withdrawn test standard. Moreover, OSHA already includes the replacement test standard in the NRTL's scope of recognition. Therefore, no further demonstration of capability is necessary at this time.

Note 3: OSHA believes the replacement test standard is comparable to the withdrawn test standard. Therefore, OSHA is incorporating the replacement test standard into the NRTLs' scopes of recognition without requiring the NRTL to further demonstrate capability, as specified by 29 CFR 1910.7(b)(1).

Table 7—Test Standards OSHA Is Deleting From or Incorporating Into the Scope of Recognition of NSF International
Deleted test standard | Reason for deletion | Replacement test standard(s) (if applicable)
UL 651B Continuous Length HDPE Conduit | Withdrawn | UL 651A Schedule 40 and 80 High Density Polyethylene (HDPE) Conduit (see Note 2 below).

Note 2: OSHA believes the replacement test standard is comparable to the withdrawn test standard. Moreover, OSHA already includes the replacement test standard in the NRTL's scope of recognition. Therefore, no further demonstration of capability is necessary at this time.

Table 8—Test Standards OSHA Is Deleting From or Incorporating Into the Scope of Recognition of SGS U.S. Testing Company, Inc.
Deleted test standard | Reason for deletion | Replacement test standard(s) (if applicable)
UL 544 Medical and Dental Equipment | Withdrawn | UL 60601-1 Medical Electrical Equipment, Part 1: General Requirements for Safety (see Note 2 below).
UL 632 Electrically-Actuated Transmitters | Withdrawn | No replacement.
UL 1604 Electrical Equipment for Use in Class I and II, Division 2 and Class III Hazardous (Classified) Locations | Withdrawn | ANSI/ISA—12.12.01-2012 Nonincendive Electrical Equipment for Use in Class I and II, Division 2 and Class III, Divisions 1 and 2 Hazardous (Classified) Locations (see Note 3 below).

Note 2: OSHA believes the replacement test standard is comparable to the withdrawn test standard. Moreover, OSHA already includes the replacement test standard in the NRTL's scope of recognition. Therefore, no further demonstration of capability is necessary at this time.

Note 3: OSHA believes the replacement test standard is comparable to the withdrawn test standard. Therefore, OSHA is incorporating the replacement test standard into the NRTLs' scopes of recognition without requiring the NRTL to further demonstrate capability, as specified by 29 CFR 1910.7(b)(1).

Table 9—Test Standard OSHA Is Deleting From the Scope of Recognition of Southwest Research Institute
Deleted test standard | Reason for deletion | Replacement test standard(s) (if applicable)
ASTM E2074 Standard Test Method for Fire Tests of Door Assemblies, Including Positive Pressure Testing of Side-Hinged and Pivoted Swinging Door Assemblies | Withdrawn | No replacement.

Table 10—Test Standards OSHA Is Deleting From or Incorporating Into the Scope of Recognition of TUV America, Inc.
Deleted test standard | Reason for deletion | Replacement test standard(s) (if applicable)
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools Safety—Part 2-8: Particular Requirements for Shears and Nibblers (see Note 3 below).
UL 745-2-9 Particular Requirements for Tappers | Withdrawn | UL 60745-2-9 Hand-Held Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 1005 Electric Flatirons | Withdrawn | UL 60335-2-3 Household and Similar Electrical Appliances, Part 2: Particular Requirements for Electric Irons (see Note 2 below).
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.

Note 2: OSHA believes the replacement test standard is comparable to the withdrawn test standard. Moreover, OSHA already includes the replacement test standard in the NRTL's scope of recognition. Therefore, no further demonstration of capability is necessary at this time.

Note 3: OSHA believes the replacement test standard is comparable to the withdrawn test standard. Therefore, OSHA is incorporating the replacement test standard into the NRTLs' scopes of recognition without requiring the NRTL to further demonstrate capability, as specified by 29 CFR 1910.7(b)(1).

Table 11—Test Standards OSHA Is Deleting From or Incorporating Into the Scope of Recognition of TUV Product Services GmbH
Deleted test standard | Reason for deletion | Replacement test standard(s) (if applicable)
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools—Safety—Part 2-8: Particular Requirements for Shears and Nibblers (see Note 3 below).
UL 745-2-9 Particular Requirements for Tappers | Withdrawn | UL 60745-2-9 Hand-Held Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 1005 Electric Flatirons | Withdrawn | UL 60335-2-3 Household and Similar Electrical Appliances, Part 2: Particular Requirements for Electric Irons (see Note 3 below).
UL 1411 Transformers and Motor Transformers for Use In Audio-, Radio-, and Television-Type Appliances | No requirement for NRTL approval because the standard covers components that are not appropriate for use as end-use products | NA.

Note 3: OSHA believes the replacement test standard is comparable to the withdrawn test standard. Therefore, OSHA is incorporating the replacement test standard into the NRTLs' scopes of recognition without requiring the NRTL to further demonstrate capability, as specified by 29 CFR 1910.7(b)(1).

Table 12—Test Standards OSHA Is Deleting From or Incorporating Into the Scope of Recognition of TUV Rheinland of North America, Inc.
Deleted test standard | Reason for deletion | Replacement test standard(s) (if applicable)
ANSI A90.1 Safety Standard for Belt Manlifts | 29 CFR 1910.68 does not require testing and certification for covered product(s); also not an appropriate test standard because it covers primarily the manufacture, installation, maintenance, inspection, and operation of manlifts, not safety testing | NA.
UL 745-2-2 Particular Requirements for Screwdrivers and Impact Wrenches | Withdrawn | UL 60745-2-2 Hand-Held Motor-Operated Electric Tools—Safety—Part 2-2: Particular Requirements for Screwdrivers and Impact Wrenches (see Note 3 below).
UL 745-2-4 Particular Requirements for Sanders | Withdrawn | UL 60745-2-4 Hand-Held Motor-Operated Electric Tools—Safety—Part 2-4: Particular Requirements for Sanders and Polishers Other Than Disk Type (see Note 3 below).
UL 745-2-6 Particular Requirements for Hammers | Withdrawn | UL 60745-2-6 Hand-Held Motor-Operated Electric Tools—Safety—Part 2-6: Particular Requirements for Hammers (see Note 3 below).
UL 745-2-8 Particular Requirements for Shears and Nibblers | Withdrawn | UL 60745-2-8 Hand-Held Motor-Operated Electric Tools Safety—Part 2-8: Particular Requirements for Shears and Nibblers (see Note 3 below).
UL 745-2-9 Particular Requirements for Tappers | Withdrawn | UL 60745-2-9 Hand-Held Motor-Operated Electric Tools—Safety—Part 2-9: Particular Requirements for Tappers (see Note 3 below).
UL 745-2-11 Particular Requirements for Reciprocating Saws | Withdrawn | UL 60745-2-11 Hand-Held Motor-Operated Electric Tools—Safety—Part 2-11: Particular Requirements for Reciprocating Saws (see Note 3 below).
UL 745-2-12 Particular Requirements for Concrete Vibrators | Withdrawn | UL 60745-2-12 Hand-Held Motor-Operated Electric Tools—Safety—Part 2-12: Particular Requirements For Concrete Vibrators (see Note 3 below)
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 3 below).
UL 745-2-34 Particular Requirements for Strapping Tools | Withdrawn | UL 60745-2-18 Hand-Held Motor-Operated Electric Tools—Safety—Part 2-18: Particular Requirements For Strapping Tools (see Note 3 below).
UL 983 Surveillance Camera Units | Withdrawn | No replacement.
UL 1005 Electric Flatirons | Withdrawn | UL 60335-2-3 Household and Similar Electrical Appliances, Part 2: Particular Requirements for Electric Irons (see Note 3 below).
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.
UL 1414 Across-the-Line, Antenna-Coupling, and Line- by-Pass Capacitors for Radio- and Television-Type Appliances | No requirement for NRTL approval because the standard covers components that are not appropriate for use as end-use products | NA.
UL 2106 Field Erected Boiler Assemblies | No requirement for NRTL approval in OSHA requirements; test standard applies to boilers burning fuel | NA.

Note 3: OSHA believes the replacement test standard is comparable to the withdrawn test standard. Therefore, OSHA is incorporating the replacement test standard into the NRTLs' scopes of recognition without requiring the NRTL to further demonstrate capability, as specified by 29 CFR 1910.7(b)(1).

Table 13—Test Standards OSHA Is Deleting From or Incorporating Into the Scope of Recognition of Underwriters Laboratories Inc.
Deleted test standard | Reason for deletion | Replacement test standard(s) (if applicable)
ANSI/NFPA 20 Installation of Stationary Fire Pumps for Fire Protection | Not an appropriate test standard because it covers primarily the selection and installation of these pumps, not safety testing | NA.
UL 94 Tests for Flammability of Plastic Materials for Parts in Devices and Appliances | No requirement for NRTL approval because the standard covers components that are not appropriate for use as end-use products | NA.
UL 187 X Ray Equipment | Withdrawn | UL 60601-1 Medical Electrical Equipment, Part 1: General Requirements for Safety (see Note 2 below).
UL 207 Refrigerant-Containing Components and Accessories, Nonelectrical | No requirement for NRTL approval because the standard covers products for which OSHA does not require testing and certification | NA.
UL 343 Pumps for Oil-Burning Appliances | No requirement for NRTL approval of this type of pump | NA.
UL 512 Fuseholders | Withdrawn | UL 4248-1 Fuseholders—Part 1: General Requirements; UL 4248-4 Fuseholders—Part 4: Class CC; UL 4248-5 Fuseholders—Part 5: Class G;
|  | UL 4248-6 Fuseholders—Part 6: Class H;
|  | UL 4248-8 Fuseholders—Part 8: Class J;
|  | UL 4248-9 Fuseholders—Part 9: Class K;
|  | UL 4248-11 Fuseholders—Part 11: Type C (Edison Base) and Type S Plug Fuse;
|  | UL 4248-12 Fuseholders—Part 12: Class R;
|  | UL 4248-15 Fuseholders—Part 15: Class T (for all replacement standards, see Note 3 below).
UL 544 Medical and Dental Equipment | Withdrawn | UL 60601-1 Medical Electrical Equipment, Part 1: General Requirements for Safety (see Note 2 below).
UL 651B Continuous Length HDPE Conduit | Withdrawn | UL 651A Schedule 40 and 80 High Density Polyethylene (HDPE) Conduit (see Note 2 below).
UL 698 Industrial Control Equipment for Use in Hazardous (Classified) Locations | Withdrawn | UL 1203 Explosion Proof and Dust Ignition Proof Electrical Equipment for Use in Hazardous (Classified) Locations (see Note 2 below).
UL 745-2-2 Particular Requirements for Screwdrivers and Impact Wrenches | Withdrawn | UL 60745-2-2 Hand-Held Motor-Operated Electric Tools—Safety—Part 2-2: Particular Requirements for Screwdrivers and Impact Wrenches (see Note 2 below).
UL 745-2-4 Particular Requirements for Sanders | Withdrawn | UL 60745-2-4 Hand-Held Motor-Operated Electric Tools—Safety—Part 2-4: Particular Requirements for Sanders and Polishers Other Than Disk Type (see Note 2 below).
UL 745-2-6 Particular Requirements for Hammers | Withdrawn | UL 60745-2-6 Hand-Held Motor-Operated Electric Tools—Safety—Part 2-6: Particular Requirements for Hammers (see Note 2 below).
UL 745-2-8 Particular Requirements for Shears and Nibblers | Withdrawn | UL 60745-2-8 Hand-Held Motor-Operated Electric Tools Safety—Part 2-8: Particular Requirements for Shears and Nibblers (see Note 2 below).
UL 745-2-9 Particular Requirements for Tappers | Withdrawn | UL 60745-2-9 Hand-Held Motor-Operated Electric Tools—Safety—Part 2-9: Particular Requirements for Tappers (see Note 2 below).
UL 745-2-11 Particular Requirements for Reciprocating Saws | Withdrawn | UL 60745-2-11 Hand-Held Motor-Operated Electric Tools—Safety—Part 2-11: Particular Requirements for Reciprocating Saws (see Note 2 below).
UL 745-2-12 Particular Requirements for Concrete Vibrators | Withdrawn | UL 60745-2-12 Hand-Held Motor-Operated Electric Tools—Safety—Part 2-12: Particular Requirements For Concrete Vibrators (see Note 2 below).
UL 745-2-30 Particular Requirements for Staplers | Withdrawn | UL 60745-2-16 Hand-Held Motor-Operated Electric Tools—Safety—Part 2-16: Particular Requirements for Tackers (see Note 3 below).
UL 745-2-33 Particular Requirements for Portable Bandsaw | Withdrawn | UL 60745-2-20 Hand-Held Motor-Operated Electric Tools—Safety—Part 2-20: Particular Requirements For Band Saws (see Note 2 below).
UL 745-2-34 Particular Requirements for Strapping Tools | Withdrawn | UL 60745-2-18 Hand-Held Motor-Operated Electric Tools—Safety—Part 2-18: Particular Requirements For Strapping Tools (see Note 2 below).
UL 746A Polymeric Materials Short Term Property Evaluations | No requirement for NRTL approval because the standard covers components that are not appropriate for use as end-use products | NA.
UL 746B Polymeric Materials Long Term Property Evaluations | No requirement for NRTL approval because the standard covers components that are not appropriate for use as end-use products | NA.
UL 746C Polymeric Materials—Use in Electrical Equipment Evaluations | No requirement for NRTL approval because the standard covers components that are not appropriate for use as end-use products | NA.
UL 746E Polymeric Materials—Industrial Laminates, Filament Wound Tubing, Vulcanized Fibre, and Materials Used in Printed-Wiring Boards | No requirement for NRTL approval because the standard covers components that are not appropriate for use as end-use products | NA.
UL 781 Portable Electric Lighting Units for Use in Hazardous (Classified) Locations | Withdrawn | UL 844 Electric Lighting Fixtures for Use in Hazardous (Classified) Locations (see Note 2 below).
UL 796 Printed-Wiring Boards | No requirement for NRTL approval because the standard covers components that are not appropriate for use as end-use products | NA.
UL 877 Circuit Breakers and Circuit Breaker Enclosures for Use in Hazardous (Classified) Locations (UL 1203) | Withdrawn | UL 1203 Explosion Proof and Dust Ignition Proof Electrical Equipment for Use in Hazardous (Classified) Locations (see Note 2 below).
UL 886 Outlet Boxes and Fittings for Use in Hazardous (Classified) Locations | Withdrawn | UL 1203 Explosion Proof and Dust Ignition Proof Electrical Equipment for Use in Hazardous (Classified) Locations (see Note 2 below).
UL 894 Switches for Use in Hazardous (Classified) Locations | Withdrawn | UL 1203 Explosion Proof and Dust Ignition Proof Electrical Equipment for Use in Hazardous (Classified) Locations (see Note 2 below).
UL 983 Surveillance Camera Units | Withdrawn | No replacement.
UL 1002 Electrically Operated Valves for Use in Hazardous (Classified) Locations | Withdrawn | UL 1203 Explosion Proof and Dust Ignition Proof Electrical Equipment for Use in Hazardous (Classified) Locations (see Note 2 below).
UL 1005 Electric Flatirons | Withdrawn | UL 60335-2-3 Household and Similar Electrical Appliances, Part 2: Particular Requirements for Electric Irons (see Note 3 below).
UL 1010 Receptacle Plug Combinations for Use in Hazardous (Classified) Locations | Withdrawn | UL 1203 Explosion Proof and Dust Ignition Proof Electrical Equipment for Use in Hazardous (Classified) Locations (see Note 2 below).
UL 1075 Gas-Fired Cooking Appliances for Recreational Vehicles | Withdrawn | No replacement.
UL 1097 Double Insulation Systems for Use in Electrical Equipment | No requirement for NRTL approval because the standard covers components that are not appropriate for use as end-use products | NA.
UL 1411 Transformers and Motor Transformers for Use In Audio-, Radio-, and Television-Type Appliances | No requirement for NRTL approval because the standard covers components that are not appropriate for use as end-use products | NA.
UL 1412 Fusing Resistors and Temperature-Limited Resistors for Radio-, and Television-Type Appliances | No requirement for NRTL approval because the standard covers components that are not appropriate for use as end-use products | NA.
UL 1413 High Voltage Components for Television Type Appliances | No requirement for NRTL approval because the standard covers components that are not appropriate for use as end-use products | NA.
UL 1414 Across-the-Line, Antenna-Coupling, and Line- by-Pass Capacitors for Radio- and Television-Type Appliances | No requirement for NRTL approval because the standard covers components that are not appropriate for use as end-use products | NA.
UL 1416 Overcurrent and Overtemperature Protectors for Radio- and Television-Type Appliances | No requirement for NRTL approval because the standard covers components that are not appropriate for use as end-use products | NA.
UL 1417 Special Fuses for Radio- and Television-Type Appliances | No requirement for NRTL approval because the standard covers components that are not appropriate for use as end-use products | NA.
UL 1433 Control Centers for Changing Message Type Electric Signs | Withdrawn | No replacement.
UL 1445 Electric Water Bed Heaters | Withdrawn | No replacement.
UL 1604 Electrical Equipment for Use in Class I and II, Division 2 and Class III Hazardous (Classified) Locations | Withdrawn | ANSI/ISA—12.12.01-2012 Nonincendive Electrical Equipment for Use in Class I and II, Division 2 and Class III, Divisions 1 and 2 Hazardous (Classified) Locations (see Note 2 below).
UL 1664 Immersion Detection Circuit Interrupters | Withdrawn | No replacement.
UL 1666 Test for Flame Propagation Height of Electrical and Optical Fiber Cables Installed Vertically in Shafts | Test method; therefore, not an appropriate test standard | NA.
UL 1684 Reinforced Thermosetting Resin Conduit (RTRC) and Fittings | Withdrawn | UL 2420 Belowground Reinforced Thermosetting Resin Conduit (RTRC) and Fittings and UL 2515 Aboveground Reinforced Thermosetting Resin Conduit (RTRC) and Fittings (for both replacement standards, see Note 3 below).
UL 1686 Pin and Sleeve Configurations | Not an appropriate test standard; does not specify safety requirements for covered devices; provides the physical dimensions for covered devices only | NA.
UL 1692 Polymeric Materials Coil Forms | No requirement for NRTL approval because the standard covers components that are not appropriate for use as end-use products | NA.
UL 1694 Tests for Flammability of Small Polymeric Component Materials | No requirement for NRTL approval because the standard covers components that are not appropriate for use as end-use products | NA.
UL 2106 Field Erected Boiler Assemblies | No requirement for NRTL approval in OSHA requirements; test standard applies to boilers burning fuel | NA.
UL 60691 Thermal-Links-Requirements and Application Guide | No requirement for NRTL approval because the standard covers components that are not appropriate for use as end-use products | NA.

Note 2: OSHA believes the replacement test standard is comparable to the withdrawn test standard. Moreover, OSHA already includes the replacement test standard in the NRTL's scope of recognition. Therefore, no further demonstration of capability is necessary at this time.

Note 3: OSHA believes the replacement test standard is comparable to the withdrawn test standard. Therefore, OSHA is incorporating the replacement test standard into the NRTLs' scopes of recognition without requiring the NRTL to further demonstrate capability, as specified by 29 CFR 1910.7(b)(1).

VI. Authority and Signature

David Michaels, Ph.D., MPH, Assistant Secretary of Labor for Occupational Safety and Health, 200 Constitution Avenue NW., Washington, DC 20210, authorized the preparation of this notice. Accordingly, the Agency is issuing this notice pursuant to 29 U.S.C. 657(g)(2), Secretary of Labor's Order No. 1-2012 (77 FR 3912, Jan. 25, 2012), and 29 CFR 1910.7.

Signed at Washington, DC, on November 19, 2013.
David Michaels,
Assistant Secretary of Labor for Occupational Safety and Health.

[FR Doc. 2013-28091 Filed 11-22-13; 8:45 am]

BILLING CODE 4510-26-P